INTERNATIONAL TRADE COMMISSION

[Inv. No. 337-TA-464]

In the Matter of Certain Video Cassette Devices and Television/Video Cassette Combination Devices and Methods of Using Same; Notice of Commission Decision Not To Review an Initial Determination Terminating the Investigation

AGENCY: International Trade Commission.

ACTION: Notice.

SUMMARY: Notice is hereby given that the U.S. International Trade Commission has determined not to review the presiding administrative law judge's (“ALJ's”) initial determination (“ID”) terminating the above-captioned investigation in its entirety by granting the unopposed motion of complainant Funai Electric Co., Ltd., (“Funai”) of Osaka, Japan, to terminate the investigation on the basis of withdrawal of the complaint.

FOR FURTHER INFORMATION CONTACT: Clara Kuehn, Esq., Office of the General Counsel, U.S. International Trade Commission, 500 E Street, SW, Washington, DC 20436, telephone (202) 205-3012. Copies of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS-ON-LINE) at http://dockets.usitc.gov/eol/public. Hearing-impaired persons are advised that information on this matter can be obtained by contacting the Commission's TDD terminal on 202-205-1810.

SUPPLEMENTARY INFORMATION: The Commission instituted this investigation on September 14, 2001, based on a complaint filed by Funai. 66 FR 47927 (2001). The notice of investigation named as respondents: Orion Electric Co., Ltd., of Fukui, Japan; Orion America, Inc., of Paramus, NJ, and Orion Sales, Inc., of Princeton, IN (collectively, “respondents”). Id. The complaint, as supplemented, alleges violations of section 337 of the Tariff Act of 1930 in the importation into the United States, sale for importation, and sale within the United States after importation of certain video cassette devices and television/video cassette combination devices by reason of infringement of claims 1-3, 5, 7, and 9 of U.S. Letters Patent 5,594,510; claims 1 and 5 of U.S. Letters Patent 5,815,218; claims 1-5 of U.S. Letters Patent 5,987,209; and claims 1-4 of U.S. Letters Patent 6,021,018. Id.

On November 27, 2001, complainant Funai withdrew the complaint and moved to terminate the investigation on the basis of the withdrawal of the complaint. On November 28, 2001, respondents filed a response stating that they did not oppose the motion. On December 7, 2001, the Commission investigative attorney filed a response in support of the motion. On April 10, 2002, the presiding ALJ issued an ID (Order No. 5) granting the motion. No petitions for review of the ID were filed.

The authority for the Commission's determination is contained in section 337 of the Tariff Act of 1930, as amended (19 U.S.C. 1337), and in section 210.42 of the Commission's Rules of Practice and Procedure (19 CFR 210.42).

Issued: April 30, 2002.
By order of the Commission.
Marilyn R. Abbott,
Secretary.

[FR Doc. 02-11042 Filed 5-2-02; 8:45 am]

BILLING CODE 7020-02-P